COMMISSION ON CIVIL RIGHTS

Notice of Public Meeting of the U.S. Virgin Islands Advisory Committee to the U.S. Commission on Civil Rights

AGENCY: Commission on Civil Rights.

ACTION: Notice of community forum.

SUMMARY: Notice is hereby given, pursuant to the provisions of the rules and regulations of the U.S. Commission on Civil Rights (Commission) and the Federal Advisory Committee Act, that the U.S. Virgin Islands Advisory Committee (Committee) to the U.S. Commission on Civil Rights will hold a community forum in a hybrid format. The purpose of the community forum is to discuss the Committee's recently published report on The Status of Civil Rights in the U.S. Virgin Islands and hear from members of the public regarding their perspectives, experiences, or civil rights concerns. To learn more about this community forum, please visit our information page: https://bit.ly/3vb0YCl.

DATES: Wednesday, April 10, 2024, from 12:00 p.m.-1:00 p.m. Atlantic Time.

ADDRESSES: The community forum will be conducted in a hybrid format. If you wish to participate in person, you may attend either of the university's campus locations; otherwise, please join virtually via the registation link below.

Locations:

• Albert A. Sheen Campus, St. Croix (University of Virgin Islands), P692+7W2, Golden Grove, UVI Theater 401, St. Croix, USVI 00851

• Orville E. Kean Campus, St. Thomas (University of Virgin Islands), 2 John Brewers Bay, UVI 13D Research and Strategy Innovation Cente, St. Thomas, USVI 00802

Register to Attend Virtually: https://bit.ly/3IJfRPi.

Join by Phone (Audio Only): 1-833-435-1820 USA Toll Free; Webinar ID: 161 943 9491#.

FOR FURTHER INFORMATION CONTACT: David Barreras, Designated Federal Officer, at dbarreras@usccr.gov or 1-202-656-8937.

SUPPLEMENTARY INFORMATION: This Committee meeting is available to the public through the registration link above. Any interested member of the public may attend this meeting in person or virtually. An open comment period will be provided to allow members of the public to make oral statements as time allows. Pursuant to the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email svillanueva@usccr.gov at least 10 business days prior to the meeting.

Members of the public are entitled to submit written comments; the comments must be received in the regional office within 30 days following the scheduled meeting. Written comments may be emailed to Sarah Villanueva at svillanueva@usccr.gov. Persons who desire additional information may contact the Regional Programs Coordination Unit at 1-202-656-8937.

Records generated from this meeting may be inspected and reproduced at the Regional Programs Coordination Unit Office, as they become available, both before and after the meeting. Records of the meetings will be available via www.facadatabase.gov under the Commission on Civil Rights, U.S. Virgin Islands Advisory Committee link. Persons interested in the work of this Committee are directed to the Commission's website, http://www.usccr.gov, or may contact the Regional Programs Coordination Unit at svillanueva@usccr.gov.

Agenda

I. Opening Remarks

II. Committee Presentation

III. Public Comment

IV. Closing Remarks

V. Adjournment

Dated: March 22, 2024.
David Mussatt,
Supervisory Chief, Regional Programs Unit.

[FR Doc. 2024-06538 Filed 3-26-24; 8:45 am]

BILLING CODE P